DEPARTMENT OF TRANSPORTATION

Federal Motor Carrier Safety Administration

[Docket No. FMCSA 2013-0058]

Agency Information Collection Activities; Extension of a Currently Approved Collection: Driver Qualification Files

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval, and invites public comment. The FMCSA provides an updated estimate of the number of CMV drivers who are required to provide information under the driver qualification (DQ) file regulations, and of the overall information collection burden imposed by those regulations.

DATES: We must receive your comments on or before May 6, 2013.

ADDRESSES: You may submit comments identified by Federal Docket Management System Number FMCSA 2013-0058 using one of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC between 9 a.m. and 5 p.m., e.t., Monday through Friday, except Federal holidays.

• Instructions: All submissions must include the Agency name and docket number. For detailed instructions on submitting comments and additional information on the exemption process, see the Public Participation heading below. Note that all comments received will be posted without change to www.regulations.gov, including any personal information provided. Please see the Privacy Act heading below.

• Docket: For access to the docket to read background documents or comments received, go to www.regulations.gov, and follow the online instructions for accessing the dockets, or go to the street address listed above.

• Privacy Act: Anyone is able to search the electronic form of all comments received into any of our dockets by the name of the individual submitting the comment (or signing the comment, if submitted on behalf of an association, business, labor union, etc.). You may review the Department of Transportation's (DOT) complete Privacy Act Statement for the Federal Docket Management System published in the Federal Register on December 29, 2010 (75 FR 82133).

• Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Thomas Yager, Chief, Driver and Carrier Operations Division, Office of Bus and Truck Standards and Operations, Federal Motor Carrier Safety Administration, 1200 New Jersey Avenue SE., Washington, DC 20590-0001. Telephone: 202-366-4325. Email: MCPSD@dot.gov.

SUPPLEMENTARY INFORMATION:

Background

The Motor Carrier Safety Act of 1984 [Pub. L. 98-554, Title II, 98 Stat. 2834 (October 30, 1984)] requires the Secretary of Transportation to issue regulations pertaining to commercial motor vehicle (CMV) safety. These regulations are also issued under the authority provided by 49 U.S.C. 504, 31133, 31136, 31502 and 49 CFR 1.87. Motor carriers must ensure that the drivers they place in interstate commerce are qualified to operate their assigned CMV. Motor carriers must obtain and maintain specified information concerning the qualifications of the driver to operate a CMV. The information on each CMV driver is maintained in a driver qualification (DQ) file. In some instances, such as during the job application process, the motor carrier must obtain the required information from the CMV driver. Other sections of the DQ file regulations require the motor carrier to contact the driver's State of licensure for a copy of that driver's official driving record. In other cases, such as the background safety investigation of the driver, the motor carrier, with the driver's consent, must contact previous employers of the driver to obtain the required information. The information in a driver's DQ file is not forwarded to the FMCSA. However, the DQ file must be made available to State and Federal safety investigators on demand.

Title: Driver Qualification Files.

OMB Control Number: 2126-0004.

Type of Request: Extension of a currently approved ICR.

Respondents: Interstate motor carriers and drivers.

Estimated Number of Respondents: 42,567,200.

Estimated Time per Response: An average of 28 minutes.

Expiration Date: May 31, 2013.

Frequency of Response: Most of the responses occur on an infrequent basis, such as when a motor carrier hires a CMV driver, or when a motor carrier conducts the required annual review of the driver's DQ file.

Estimated Total Annual Burden: 5,236,866 hours [4,908,333 hours for driver hiring + 237,333 hours for annual review of driver qualifications + 91,200 hours for driver review and rebuttal of safety performance history = 5,236,866]. FMCSA arrives at this estimate by summing the estimated times required for each of 10 regulatory requirements related to the DQ file.

Definitions

(1) “Federal Motor Carrier Safety Regulations” (FMCSRs) are parts 350-399 of Title 49 of the Code of Federal Regulations. (2) “Commercial Motor Vehicle” (CMV) is “a self-propelled or towed vehicle used on the highways in interstate commerce to transport passengers or property, if the vehicle—

(A) has a gross vehicle weight rating or gross combination weight rating, or gross vehicle weight or gross combination weight, of at least 10,001 pounds, whichever is greater;

(B) Is designed or used to transport more than 8 passengers (including the driver) for compensation;

(C) is designed or used to transport more than 15 passengers, including the driver, and is not used to transport passengers for compensation; or

(D) is used in transporting material found by the Secretary of Transportation to be hazardous under section 5103 of this title and transported in a quantity requiring placarding under regulations prescribed by the Secretary under section 5103.” (49 CFR 390.5.)

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued on: February 26, 2013.
G. Kelly Leone,
Associate Administrator, Office of Research and Information Technology and Chief Information Officer.

[FR Doc. 2013-05092 Filed 3-4-13; 8:45 am]

BILLING CODE 4910-EX-P